DEPARTMENT OF ENERGY

Federal Energy Regulatory Commission

[Docket No. ES01-35-000, et al.]

Old Dominion Electric Cooperative, et al.; Electric Rate and Corporate Regulation Filings

June 5, 2001.

Take notice that the following filings have been made with the Commission:

1. Old Dominion Electric Cooperative

[Docket No. ES01-35-000]

Take notice that on May 31, 2001, Old Dominion Electric Cooperative (Old Dominion) submitted an application pursuant to section 204 of the Federal Power Act seeking authorization to guarantee long-term obligations in an amount not exceeding an aggregate of $100 million.

Old Dominion also requests a waiver of the Commission's negotiated placement and competitive bidding requirements at 18 CFR 34.2.

Comment date: June 18, 2001, in accordance with Standard Paragraph E at the end of this notice.

2. Old Dominion Electric Cooperative

[Docket No. ES01-36-000]

Take notice that on May 31, 2001, Old Dominion Electric Cooperative (Old Dominion) submitted an application pursuant to section 204 of the Federal Power Act seeking authorization to guarantee long-term obligations in an amount not exceeding an aggregate of $700 million.

Old Dominion also requests a waiver of the Commission's negotiated placement and competitive bidding requirements at 18 CFR 34.2.

Comment date: June 18, 2001, in accordance with Standard Paragraph E at the end of this notice.

3. Kentucky Utilities Company

[Docket No. ER01-1098-001]

Take notice that on May 31, 2001, Kentucky Utilities Company (KU), tendered for filing, in compliance with delegated Order dated February 27, 2001, service agreement designations of its wholesale requirements customers.

Comment date: June 21, 2001, in accordance with Standard Paragraph E at the end of this notice.

4. Pilot Power Group, Inc.

[Docket No. ER01-1699-002]

Take notice that on May 31, 2001, Pilot Power Group, Inc. tendered for filing an amendment to its May 10, 2001 submission by filing with the Commission the Rate Schedule applicable to its end-use customers, containing the designations requested by the Commission.

On March 28, 2001, Pilot Power Group, Inc. (Pilot) filed a Rate Schedule for purchases and sales of electricity at market-based rates together with a Rate Schedule to resell electricity at market-based rates on behalf of retail end-use customers of Pilot. By letter order dated April 30, 2001, the Commission granted Pilot's petition, and ordered Pilot to re-file with the Commission its Rate Schedule with the proper designations, within 30 days of the order. On May 10, 2001, Pilot re-filed its Rate Schedule, amended to include the proper designations.

Comment date: June 21, 2001, in accordance with Standard Paragraph E at the end of this notice.

5. Santa Rosa Energy LLC

[Docket No. ER01-1714-001]

Take notice that on May 31, 2001, Santa Rosa Energy LLC (Santa Rosa) tendered for filing: (1) Corrected designations to its application for market-based rates, waivers, and blanket approvals under various regulations of the Commission; and (2) request for waiver of the 120-day advance notice and filing requirement. Santa Rosa proposes that its Electric Tariff No. 1 become effective upon commencement of service of its cogeneration facility at the Santa Rosa Energy Center (the Facility), a 255 MW generation project currently being developed by Santa Rosa in Pace, Florida. The Facility is expected to be commercially operable by approximately the second quarter of 2002.

Santa Rosa intends to sell energy, capacity, and certain ancillary services from the Facility in the wholesale power market at market-based rates, and on such terms and conditions to be mutually agreed to with the purchasing party.

Comment date: June 21, 2001, in accordance with Standard Paragraph E at the end of this notice.

6. Rochester Gas and Electric Corporation

[Docket No. ER01-1735-001]

Take notice that on May 31, 2001, Rochester Gas and Electric Corporation, tendered for filing in compliance with the order issued on April 30, 2001 in this proceeding. This filing makes certain modifications to RG&E's Market Based Power Sales Tariff, FERC Electric Tariff Original Volume No. 3, to comply with Order No. 614, FERC Stats. & Regs. ¶ 31,096 (2000).

Comment date: June 21, 2001, in accordance with Standard Paragraph E at the end of this notice.

7. Carolina Power & Light Company

[Docket No. ER01-1853-001]

Take notice that on May 31, 2001, Carolina Power & Light Company (CP&L) tendered for filing a revised Appendix K (Monthly Facility Fee) to the executed Facility Interconnection and Operating Agreement with Lumberton Power, LLC (Lumberton). CP&L requests waiver of the Commission's notice requirements in order for the revised Appendix K to become effective on April 24, 2001.

Copies of the filing were served upon Lumberton and the North Carolina Public Utilities Commission.

Comment date: June 21, 2001, in accordance with Standard Paragraph E at the end of this notice.

8. Carolina Power & Light Company

[Docket No. ER01-1859-001]

Take notice that on May 31, 2001, Carolina Power & Light Company (CP&L) tendered for filing a revised Appendix K (Monthly Facility Fee) to the executed Facility Interconnection and Operating Agreement with Elizabethtown Power, LLC (Elizabethtown). CP&L requests waiver of the Commission's notice requirements in order for the revised Appendix K to become effective on April 24, 2001.

Copies of the filing were served upon Elizabethtown and the North Carolina Public Utilities Commission.

Comment date: June 21, 2001, in accordance with Standard Paragraph E at the end of this notice.

9. Southern Company Services, Inc.

[Docket No. ER01-2165-000]

Take notice that on May 30, 2001, Southern Company Services, Inc., as agent for Alabama Power Company, Georgia Power Company, Gulf Power Company, Mississippi Power Company, and Savannah Electric and Power Company (Southern Companies) tendered for filing the Generator Balancing Service Agreement by and between Exelon Generation Company LLC (Exelon) and Southern Companies (the Service Agreement) under Southern Companies' Generator Balancing Service Tariff (FERC Electric Tariff, First Revised Volume No. 9).

The Service Agreement supplies Exelon with unscheduled capacity and energy in connection with sales from Tenaska Georgia Partners, L.P.”s electric generating facility as a replacement for unintentional differences between the facility's actual metered generation and its scheduled generation. The Service Agreement (No. 5) is dated as of May 1, 2001, and shall terminate upon twelve months prior written notice of either party.

Comment date: June 20, 2001, in accordance with Standard Paragraph E at the end of this notice.

10. Southern Company Services, Inc.

[Docket No. ER01-2166-000]

Take notice that on May 30, 2001, Southern Company Services, Inc., as agent for Georgia Power Company (Georgia Power), tendered for filing the Interconnection Agreement between Georgia Power and Duke Energy Murray, LLC (DENA Murray) (the Agreement), as a service agreement under Southern Operating Companies' Open Access Transmission Tariff (FERC Electric Tariff, Fourth Revised Volume No. 5) and is designated as Service Agreement No. 377. The Agreement provides the general terms and conditions for the interconnection and parallel operation of DENA Murray's electric generating facility located near Chatsworth, Murray County, Georgia.

The Agreement terminates forty (40) years from the effective date unless terminated earlier by mutual written agreement.

Comment date: June 20, 2001, in accordance with Standard Paragraph E at the end of this notice.

11. Western Systems Coordinating Council

[Docket No. ER01-2167-000]

Take notice that on May 30, 2001, the Western Systems Coordinating Council (WSCC) tendered for filing with the Commission an amendment to the Reliability Criteria Agreement under the WSCC's Reliability Management System. The amendment (a) modifies the time period under the Operating Transfer Capability to twenty minutes (for stability limited paths), and (b) permits the Reliability Compliance Committee to request additional information as part of its review of initial determinations of noncompliance.

The WSCC requests that the Commission make such amendment effective June 1, 2001.

Comment date: June 20, 2001, in accordance with Standard Paragraph E at the end of this notice.

12. Alcoa Power Generating Inc.

[Docket No. ER01-2168-000]

Take notice that on May 30, 2001, Alcoa Power Generating Inc. (APGI) tendered for filing a service agreement between Southern Indiana Gas and Electric Company (Southern Indiana) and APGI under APGI's Market Rate Tariff. This Tariff was accepted for filing by the Commission on July 13, 1999, in Docket No. ER99-2932-000.

The service agreement with Southern Indiana is proposed to be effective May 1, 2001.

Comment date: June 20, 2001, in accordance with Standard Paragraph E at the end of this notice.

13. Exelon Generation Company, LLC

[Docket No. ER01-2169-000]

Take notice that on May 30, 2001, Exelon Generation Company, LLC (Exelon Generation) tendered for filing with the Federal Energy Regulatory Commission (FERC or the Commission) a service agreement for wholesale power sales transactions between Exelon Generation and GEN-SYS Energy under Exelon Generation's wholesale power sales tariff, FERC Electric Tariff, Original Volume No. 1.

Comment date: June 20, 2001, in accordance with Standard Paragraph E at the end of this notice.

14. Consumers Energy Company

[Docket No. ER01-2170-000]

Take notice that on May 30, 2001, Consumers Energy Company (Consumers) tendered for filing a Service Agreement with Dynegy Power Marketing, Inc., (Customer) under Consumers FERC Electric Tariff No. 9 for Market Based Sales. Consumers requested that the Agreement be allowed to become effective May 15, 2001.

Copies of the filing were served upon the Customer and the Michigan Public Service Commission.

Comment date: June 20, 2001, in accordance with Standard Paragraph E at the end of this notice.

15. Commonwealth Edison Company

[Docket No. ER01-2171-000]

Take notice that on May 30, 2001, Commonwealth Edison Company (ComEd) tendered for filing three Non-Firm Transmission Service Agreements with EnergyUSA-TPC Corp. (TPC), Ameren Energy, Inc. (AME) and Conoco Gas & Power Marketing, a Division of Conoco, Inc. (CONC) and three Short-Term Firm Transmission Service Agreements with TPC, AME and CONC under the terms of ComEd's Open Access Transmission Tariff (OATT). ComEd also submitted for filing an updated Index of Customers reflecting the name change for current customer Southern Company Energy Marketing renamed Mirant Americas Energy Marketing (MAEM).

ComEd requests an effective date of May 1, 2001 for the service agreements and accordingly requests waiver of the Commission's notice requirements. Copies of the filing were served on TPC, AME, CONC and MAEM.

Comment date: June 20, 2001, in accordance with Standard Paragraph E at the end of this notice.

16. Southern Company Services, Inc.

[Docket No. ER01-2172-000]

Take notice that on May 30, 2001, Southern Company Services, Inc., as agent for Alabama Power Company, Georgia Power Company, Gulf Power Company, Mississippi Power Company, and Savannah Electric and Power Company (Southern Companies) tendered for filing the Generator Balancing Service Agreement by and between Coral Power Company LLC (Coral Power) and Southern Companies (the Service Agreement) under Southern Companies' Generator Balancing Service Tariff (FERC Electric Tariff, First Revised Volume No. 9).

The Service Agreement supplies Coral Power with unscheduled capacity and energy in connection with sales from Mobile Energy, LLC's electric generating facility as a replacement for unintentional differences between the facility's actual metered generation and its scheduled generation. The Service Agreement (No. 6) is dated as of May 1, 2001, and shall terminate upon twelve months prior written notice of either party.

Comment date: June 20, 2001, in accordance with Standard Paragraph E at the end of this notice.

17. Southern Company Services, Inc.

[Docket No. ER01-2173-000]

Take notice that on May 30, 2001, Southern Company Services, Inc., as agent for Georgia Power Company (Georgia Power), tendered for filing the Interconnection Agreement between Georgia Power and Duke Energy Sandersville, LLC (DENA Sandersville) (the Agreement), as a service agreement under Southern Operating Companies' Open Access Transmission Tariff (FERC Electric Tariff, Fourth Revised Volume No. 5) and is designated as Service Agreement No. 379.

The Agreement provides the general terms and conditions for the interconnection and parallel operation of DENA Sandersville's electric generating facility located near Sandersville, Washington County, Georgia. The Agreement terminates forty (40) years from the effective date unless terminated earlier by mutual written agreement.

Comment date: June 20, 2001, in accordance with Standard Paragraph E at the end of this notice.

18. Ameren Services Company

[Docket No. ER01-2174-000]

Take notice that on May 30, 2001, Ameren Services Company (ASC) tendered for filing Service Agreements for Firm Point-to-Point Transmission Service and Non-Firm Point-to-Point Transmission Service between ASC and Otter Tail Power Company.

ASC asserts that the purpose of the Agreements is to permit ASC to provide transmission service to Otter Tail Power Company pursuant to Ameren's Open Access Transmission Tariff.

Comment date: June 20, 2001, in accordance with Standard Paragraph E at the end of this notice.

19. Ameren Services Company

[Docket No. ER01-2175-000]

Take notice that on May 30, 2001, Ameren Services Company (ASC) tendered for filing a Service Agreement for Firm Point-to-Point Transmission Services between ASC and Ameren Energy Marketing Company (customer).

ASC asserts that the purpose of the Agreement is to permit ASC to provide transmission service to customer pursuant to Ameren's Open Access Transmission Tariff.

Comment date: June 20, 2001, in accordance with Standard Paragraph E at the end of this notice.

20. EnergyUSA-TPC Corp.

[Docket No. ER01-2176-000]

Take notice that on May 31, 2001, EnergyUSA-TPC Corp. (TPC), an indirect wholly owned subsidiary of NiSource, Inc., tendered for filing a Service Agreement and its FERC Electric Rate Schedule 2 (Service Agreement). TPC seeks an effective date of July 30, 2001, for the tariff sheets submitted with this filing.

TPC states that pursuant to the Service Agreement, it will be authorized to sell electric energy, from time to time, to its public utility affiliate, Northern Indiana Public Service Company (NIPSCO). The rate applicable to any such sales will be capped at the published Into-Cinergy price for the applicable time period. The Into-Cinergy rate will act as a guarantee against potential affiliate concerns. Under the terms of the proposed Service Agreement, neither TPC nor NIPSCO shall be required to undertake any sales or purchases of electric energy.

Comment date: June 21, 2001, in accordance with Standard Paragraph E at the end of this notice.

21. South Carolina Electric & Gas Company

[Docket No. ER01-2177-000]

Take notice that on May 31, 2001, South Carolina Electric & Gas Company (SCE&G) tendered for filing an executed Transaction Agreement with the City of Orangeburg, South Carolina under SCE&G's Negotiated Market Sales Tariff.

SCE&G requests an effective date of May 1, 2001, the date service commenced. Copies of this filing were served upon CEPC and the South Carolina Public Service Commission.

Comment date: June 21, 2001, in accordance with Standard Paragraph E at the end of this notice.

22. Rochester Gas and Electric Corporation

[Docket No. ER01-2178-000]

Take notice that on May 31, 2001 Rochester Gas and Electric Corporation (RG&E) tendered for filing a Service Agreement between RG&E and Energetix, Inc. (Customer). This Service Agreement specifies that the Customer has agreed to the rates, terms and conditions of RG&E's FERC Electric Rate Schedule, Original Volume 3.

RG&E requests waiver of the Commission's sixty (60) day notice requirements and an effective date of May 1, 2001 for the Service Agreement. RG&E has served copies of the filing on the New York State Public Service Commission and on the Customer.

Comment date: June 21, 2001, in accordance with Standard Paragraph E at the end of this notice.

23. Rochester Gas and Electric Corporation

[Docket No. ER01-2179-000]

Take notice that on May 31, 2001 Rochester Gas and Electric Corporation (RG&E) tendered for filing a Service Agreement between RG&E and Monroe County (Customer). This Service Agreement specifies that the Customer has agreed to the rates, terms and conditions of RG&E's FERC Electric Rate Schedule, Original Volume 3.

RG&E requests waiver of the Commission's sixty (60) day notice requirements and an effective date of May 1, 2001 for the Service Agreement. RG&E has served copies of the filing on the New York State Public Service Commission and on the Customer.

Comment date: June 21, 2001, in accordance with Standard Paragraph E at the end of this notice.

24. Rochester Gas and Electric Corporation

[Docket No. ER01-2180-000]

Take notice that on May 31, 2001 Rochester Gas and Electric Corporation (RG&E) tendered for filing a Service Agreement between RG&E and TXU Energy Services (Customer). This Service Agreement specifies that the Customer has agreed to the rates, terms and conditions of RG&E's FERC Electric Rate Schedule, Original Volume 3.

RG&E requests waiver of the Commission's sixty (60) day notice requirements and an effective date of May 1, 2001 for the Service Agreement. RG&E has served copies of the filing on the New York State Public Service Commission and on the Customer.

Comment date: June 21, 2001, in accordance with Standard Paragraph E at the end of this notice.

25. American Electric Power Service Corporation

[Docket No. ER01-2181-000]

Take notice that on May 31, 2001, the American Electric Power Service Corporation (AEPSC) tendered for filing executed Firm and Non-Firm Transmission Service Agreements for Calpine Energy Services, L.P. Firm and Non-Firm Transmission Service Agreements for Exelon Generation Company, LLC, an ERCOTT Regional Transmission Service Agreement for NRG Power Marketing, Inc., and Long-Term Firm Point to Point Transmission Service Agreement Specifications for AEPSC's Merchant Organization Power Marketing and Trading Division and Consumers Energy Company. All of these agreements are pursuant to the AEP Companies' Open Access Transmission Service Tariff (OATT) that has been designated as the Operating Companies of the American Electric Power System FERC Electric Tariff Second Revised Volume No. 6. AEPSC requests waiver of notice to permit the Service Agreements to be made effective for service on and after May 1, 2001.

AEPSC also requests immediate termination of firm and non-firm service agreements executed October 1, 1998 and January 1, 1997, by Michigan Electric Coordinated Systems (MECS) under AEP Companies' FERC Electric Tariff Original Volume No. 4. MECS requested the termination of the service agreements while announcing the termination, effective March 31, 2001, of the joint electric power purchases and sales function that MECS was conducting for Consumers Energy Company and The Detroit Edison Company.

A copy of the filing was served upon the Parties and the state utility regulatory commissions of Arkansas, Indiana, Kentucky, Louisiana, Michigan, Ohio, Oklahoma, Tennessee, Texas, Virginia and West Virginia.

Comment date: June 21, 2001, in accordance with Standard Paragraph E at the end of this notice.

26. American Electric Power Service Corporation

[Docket No. ER01-2182-000]

Take notice that on May 31, 2001, the American Electric Power Service Corporation (AEPSC) tendered for filing a blanket service with Tex-La Electric Cooperative of Texas, Inc. (Tex-La) by the AEP Companies under their Power Sales Tariffs (Power Sales Tariffs). The Power Sales Tariffs were accepted for filing effective October 10, 1997 and has been designated AEP Operating Companies' FERC Electric Tariff Original Volume No. 5 (Wholesale Tariff of the AEP Operating Companies) and FERC Electric Tariff Original Volume No. 8, Effective January 8, 1998 in Docket ER98-542-000 (Market-Based Rate Power Sales Tariff of the CSW Operating Companies).

AEPSC respectfully requests waiver of notice to permit this service agreement to be made effective on or prior to April 23, 2001.

Comment date: June 21, 2001, in accordance with Standard Paragraph E at the end of this notice.

27. Central Vermont Public Service Corporation

[Docket No. ER01-2183-000]

Take notice that on May 31, 2001, Central Vermont Public Service Corporation, tendered for filing the Actual 2000 Cost Report required under Paragraph Q-1 on Original Sheet No. 18 of the Rate Schedule FERC No. 135 (RS-2 Rate Schedule) under which Central Vermont Public Service Corporation (Company) sells electric power to Connecticut Valley Electric Company Inc. (Customer). The Actual 2000 Cost Report supports a refund to the Customer in the amount of $879,079, including interest, as provided by t RS-2 Rate Schedule.

The Actual 2000 Cost Report reflects changes to the RS-2 Rate Schedule which were approved by the Commission's June 6, 1989 order in Docket No. ER88-456-000.

Copies of the filing were served upon the Customer, the New Hampshire Public Utilities Commission, and the Vermont Public Service Board.

Comment date: June 21, 2001, in accordance with Standard Paragraph E at the end of this notice.

28. Cleco Power LLC

[Docket No. ER01-2184-000]

Take notice that on May 31, 2001, Cleco Power LLC (Cleco) tendered for filing a Service Agreement for Sale of Power and Energy with the City of Ruston, Louisiana as a long-term service agreement under Cleco's market based rates tariff.

The Service Agreement is designated as Cleco Power LLC Service Agreement No. 25 to FERC Electric Tariff, Original Volume No. 2.

Comment date: June 21, 2001, in accordance with Standard Paragraph E at the end of this notice.

29. Tampa Electric Company

[Docket No. ER01-2185-000]

Take notice that on May 31, 2001, Tampa Electric Company (Tampa Electric) tendered for filing a Short-Form Market-Based Wholesale Power Sales Tariff (Short-Form Tariff). The Short-Form Tariff will not replace Tampa Electric's existing market-based sales tariff, which will continue in effect for existing service agreements thereunder.

Tampa Electric requests that the Short-Form Tariff be made effective on June 1, 2001, and therefore requests waiver of the Commission's notice requirement.

Copies of the filing have been served on the customers under Tampa Electric's existing market-based sales tariff and the Florida Public Service Commission.

Comment date: June 21, 2001, in accordance with Standard Paragraph E at the end of this notice.

30. Hunlock Creek Energy Ventures

[Docket No. ER01-2186-000]

Take notice that on May 31, 2001, Hunlock Creek Energy Ventures (Energy Ventures) tendered for filing a Service Agreement for wholesale power sales transactions under Energy Ventures' FERC Electric Tariff Original Volume No. 1, among Energy Ventures, UGI Hunlock Development Company, Allegheny Energy Supply Hunlock Creek, LLC, UGI Development Company, and Allegheny Energy Supply Company.

Energy Ventures requests an effective date of June 1, 2001 for the Service Agreement.

Comment date: June 21, 2001, in accordance with Standard Paragraph E at the end of this notice.

31. Commonwealth Edison Company, Inc.

[Docket ER01-2187-000]

Take notice that on May 31, 2001, Commonwealth Edison Company (ComEd) tendered for filing a Service Agreement for Network Integration Transmission Service (NSA) and a Network Operating Agreement (NOA) between ComEd and Peoples Energy Services Corporation (Peoples). These agreements govern ComEd's provision of network service to serve retail load under the terms of ComEd's Open Access Transmission Tariff (OATT).

ComEd requests an effective date of June 1, 2001 for the NSA and NOA.

Copies of this filing were served on Peoples.

Comment date: June 21, 2001, in accordance with Standard Paragraph E at the end of this notice.

32. Illinois Power Company

[Docket No. ER01-2188-000]

Take notice that on May 31, 2001, Illinois Power Company (Illinois Power), tendered for filing a Second Revised Service Agreement for Network Integration Transmission Service entered into with The Cincinnati Gas & Electric Company, PSI Energy, Inc. and Cinergy Services, Inc. pursuant to Illinois Power's Open Access Transmission Tariff.

Illinois Power requests an effective date of May 1, 2001 for the Second Revised Service Agreement and accordingly seeks a waiver of the Commission's notice requirement. Illinois Power states that a copy of this filing has been sent to the customer.

Comment date: June 21, 2001, in accordance with Standard Paragraph E at the end of this notice.

33. Mid-Continent Area Power Pool

[Docket No. ER01-2189-000]

Take notice that on May 31, 2001, the Mid-Continent Area Power Pool, on behalf of its public utility members, tendered for filing long-term firm, short-term firm and non-firm service agreements under MAPP Schedule F with Allegheny Energy Supply Company, LLC; Ameren Energy Marketing; American Electric Power Corporation; Black Hills Power; Calpine Energy Services, L.P.; Conectiv Energy Supply, Inc.; Conoco Gas and Power Marketing; DTE Energy Trading, Inc.; Dynegy Power Marketing Inc.; El Paso Merchant Energy, L.P.; FPL Energy Power Marketing, Inc.; Idaho Power Company d/b/a IDACORP Energy; NRG Power Marketing Inc.; Split Rock Energy; The Legacy Energy Group, LLC; Williams Energy Marketing & Trading Company; and Wisconsin Electric Power Company.

Comment date: June 21, 2001, in accordance with Standard Paragraph E at the end of this notice.

34. Metropolitan Edison Company

[Docket No. ER01-2190-000]

Take notice that on May 31, 2001, Metropolitan Edison Company (doing business and referred to as GPU Energy) tendered for filing a Generation Facility Transmission Interconnection Agreement (Agreement) between GPU Energy and The Bentech Group of Delaware, Inc. (Bentech).

Comment date: June 21, 2001, in accordance with Standard Paragraph E at the end of this notice.

35. Tucson Electric Power Company

[Docket No. ER01-2191-000]

Take notice that on May 31, 2001, Tucson Electric Power Company (Tucson) tendered for filing one (1) Service Agreement for Network Integration Transmission Service dated January 10, 2001, with Arizona Electric Power Cooperative, Inc. under Tucson's Open Access Transmission Tariff. Tucson also submitted for filing an executed Network Operating Agreement.

The details of the service agreement is as follows:

(1) Service Agreement for Network Integration Transmission Service dated as of January 10, 2001, by and between Tucson Electric Power Company and Arizona Electric Power Cooperative, Inc. Service under this agreement commenced on May 1, 2001.

Comment date: June 21, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14685 Filed 6-11-01; 8:45 am]

BILLING CODE 6717-01-P